INTERNATIONAL TRADE COMMISSION

[Inv. No. 337-TA-547]

In the Matter of Certain Personal Computers, Monitors, and Components Thereof; Notice of Decision Not To Review an Initial Determination Granting a Joint Motion To Terminate the Investigation Based on a Settlement Agreement

AGENCY: U.S. International Trade Commission.

ACTION: Notice.

SUMMARY: Notice is hereby given that the U.S. International Trade Commission has determined not to review an initial determination (“ID”) issued by the presiding administrative law judge (“ALJ”) on June 19, 2006, granting the joint motion to terminate the above-captioned investigation based on a settlement agreement.

FOR FURTHER INFORMATION CONTACT: Michael Liberman, Esq., Office of the General Counsel, U.S. International Trade Commission, 500 E Street, SW., Washington, DC 20436, telephone 202-205-3115. Copies of the public version of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On August 10, 2005, the Commission instituted an investigation under section 337 of the Tariff Act of 1930, 19 U.S.C. 1337, based on a complaint filed by Hewlett-Packard Development Company, L.P., of Houston, Texas, and Hewlett-Packard Company of Palo Alto, California (collectively, “HP”) alleging a violation of section 337 in the importation, sale for importation, and sale within the United States after importation of certain personal computers, monitors, and components thereof by reason of infringement of claims 4, 7-8, 12, 15, and 18 of U.S. Patent No. 6,501,721; claims 1-17 of U.S. Patent No. 6,691,236; claims 1-26 of U.S. Patent No. 6,438,697; claims 1-8 and 23-33 of U.S. Patent No. 6,894,706; and claims 1-33 of U.S. Patent No. 6,803,865. 70 FR 46544 (August 10, 2005). The complainant named Gateway, Inc. and eMachines, Inc., both of Irvine, California (collectively, “Gateway”) as respondents.

On May 25, 2006, HP and Gateway filed a joint motion for termination of the investigation based on a settlement agreement. On June 13, 2006, the Commission investigative attorney filed her response in support of the motion. On June 19, 2006, the presiding ALJ issued an ID (Order No. 13) granting the joint motion. No party petitioned for review of the ALJ's ID.

The Commission has determined not to review the ALJ's ID. Accordingly, the investigation is terminated.

The authority for the Commission's determination is contained in section 337 of the Tariff Act of 1930, as amended (19 U.S.C. 1337), and in section 210.42 of the Commission's Rules of Practice and Procedure (19 CFR 210.42).

By order of the Commission.
Issued: July 10, 2006.
Marilyn R. Abbott,
Secretary to the Commission.

[FR Doc. E6-11026 Filed 7-12-06; 8:45 am]

BILLING CODE 7020-02-P